DEPARTMENT OF STATE

[Public Notice 7687]

60-Day Notice of Proposed Information Collection: Gender Assessment Surveys, OMB Control Number 1405-XXXX

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Gender Assessment Surveys.

• OMB Control Number: None.

• Type of Request: New Collection.

• Originating Office: Bureau of Educational and Cultural Affairs, Office of Policy and Evaluation, Evaluation Division (ECA/P/V).

• Form Number: SV2011-0027; SV2011-0028; SV2011-0029; SV2011-0030.

• Respondents: Fortune/U.S. State Department Global Women's Mentoring Partnership Program participants from 2006 through 2010, International Leaders in Education Program (ILEP) participants from 2006 through 2010, Institute for Representative Government (IRG) participants from 2003 through 2010, and American Fellows Program participants from 2006-2010.

• Estimated Number of Respondents: 778 annually (146—Fortune; 257—ILEP; 200—IRG, 175—Fellows).

• Estimated Number of Responses: 778 annually (146—Fortune; 257—ILEP; 200—IRG, 175—Fellows).

• Average Hours per Response: 31 minutes (35—Fortune; 35—ILEP; 20—IRG; 35—Fellows).

• Total Estimated Burden: 404 hours annually (85—Fortune; 150—ILEP; 67—IRG; 102—Fellows).

• Frequency: One time.

• Obligation to Respond: Voluntary.

DATES: The Department will accept comments from the public up to 60 days from November 16, 2011.

ADDRESSES: You may submit comments by any of the following methods:

• Email: HaleMJ2@state.gov.

• Mail (paper, disk, or CD-ROM submissions): ECA/P/V, SA-5, C2 Floor, Department of State, Washington, DC 20522-0505

• Fax: (202) 632-6320.

• Hand Delivery or Courier: ECA/P/V, SA-5, C2 Floor, Department of State, 2200 C Street NW., Washington, DC 20037.

You must include the DS form number (if applicable), information collection title, and OMB control number in any correspondence.

FOR FURTHER INFORMATION CONTACT: Direct requests for additional information regarding the collection listed in this notice, including requests for copies of the proposed information collection and supporting documents, to Michelle Hale, ECA/P/V, SA-5, C2 Floor, Department of State, Washington, DC 20522-0582, who may be reached on (202) 632-6312 or at HaleMJ2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

To meet OMB and Congressional reporting requirements, this request for a new information collection clearance will allow ECA/P/V, as part of the Gender Assessment Evaluation, to conduct surveys of exchange participants in the Fortune, ILEP, IRG, and American Fellows programs between the years of 2003 and 2010. Collecting this data will help ECA/P/V assess and measure the similar and different impacts the programs had on men and women participants.

Methodology

Evaluation data will be collected via Survey Gizmo, an on-line surveying tool. It is anticipated that a very limited number of participants may receive a hard copy of the surveys.

Dated: November 4, 2011.
Matt Lussenhop,
Director of the Office of Policy and Evaluation, Bureau of Educational and Cultural Affairs, Department of State.

[FR Doc. 2011-29645 Filed 11-15-11; 8:45 am]

BILLING CODE 4710-05-P